DEPARTMENT OF ENERGY

Federal Energy Regulatory Commission

18 CFR Part 35

[Docket No. RM05-4-001—Order No. 661]

Interconnection for Wind Energy

Issued August 5, 2005.

AGENCY: Federal Energy Regulatory Commission, DOE.

ACTION: Order granting delay of effective date and extending compliance date.

SUMMARY: The Federal Energy Regulatory Commission (Commission) is delaying the effective date of the Final Rule on Interconnection for Wind Energy, Order No. 661, 60 days from the current effective date (August 15, 2005) to October 14, 2005. The Commission is also extending the date by which public utilities must adopt the Appendix G included in the Final Rule to November 14, 2005.

DATES: The effective date for the rule published at 70 FR 34993 on June 16, 2005 is delayed until October 14, 2005.

Compliance Date: The date by which public utilities must adopt Appendix G is extended to November 14, 2005.

FOR FURTHER INFORMATION CONTACT: Jeffery S. Dennis (Legal Information), Office of the General Counsel, Federal Energy Regulatory Commission, 888 First Street, NE., Washington, DC 20426. (202) 502-6027.

SUPPLEMENTARY INFORMATION:

Before Commissioners: Joseph T. Kelliher, Chairman; Nora Mead Brownell, and Suedeen G. Kelly.

Order Granting Extension of Effective Date and Extending Compliance Date

1. On August 4, 2005, the American Wind Energy Association (AWEA) and the North American Electric Reliability Council (NERC) filed a request for extension of the effective date of the Commission's Final Rule, issued June 2, 2005 in this docket.¹ AWEA and NERC state that they have initiated discussions to address the low voltage ride-through provisions of the Commission's Final Rule. They request a 60-day extension of the effective date of the Final Rule to October 14, 2005.

¹ Interconnection for Wind Energy, Order No. 661, 70 FR 34993 (June 16, 2005), FERC Stats. & Regs. ¶ 31,186 (2005) (Final Rule), reh'g pending.

2. For good cause shown, the Commission will extend the effective date of the Final Rule 60 days from the current effective date (August 15, 2005) to October 14, 2005. Additionally, we will extend to November 15, 2005, the date by which all public utilities that own, control, or operate transmission facilities in interstate commerce are to adopt the Final Rule Appendix G as amendments to the Large Generator Interconnection Procedures and Large Generator Interconnection Agreements (LGIAs) in their Open Access Transmission Tariffs.² The transition period adopted in the Final Rule (which states that the low voltage ride-through, reactive power and supervisory control and data acquisition (SCADA) provisions apply only to LGIAs signed, filed with the Commission in executed form, or filed as non-conforming agreements, on or after January 1, 2006, or the date six months after publication of the Final Rule in the Federal Register) remains unchanged.

² This extension also satisfies the request for extension submitted by Midwest Independent Transmission System Operator, Inc. on August 4, 2005.

3. NERC and AWEA state that they will file a report with the Commission on or before September 14, 2005, describing the final results of their discussions and any recommended revisions to the low voltage ride-through provisions in the Final Rule. The Commission accepts this commitment, and will take any such recommended revisions submitted on or before September 14, 2005 into consideration as it considers the requests for rehearing filed in this proceeding. Additionally, the Commission will consider any supplemental comments related to the low voltage ride-through provisions of the Final Rule that are filed on or before September 14, 2005. However, the Commission will not consider comments that simply rehash prior arguments.

The Commission orders:

(A) The effective date of the Final Rule on Interconnection for Wind Energy is hereby extended to October 14, 2005, as discussed in the body of this order.

(B) The date by which all public utilities that own, control, or operate transmission facilities in interstate commerce are to adopt the Final Rule Appendix G as amendments to the Large Generator Interconnection Procedures and Large Generator Interconnection Agreements in their Open Access Transmission Tariffs is hereby extended to November 14, 2005, as discussed in the body of this order.

(C) The Secretary shall promptly publish a copy of this order in the Federal Register.

By the Commission.
Linda Mitry,
Deputy Secretary.

[FR Doc. 05-15980 Filed 8-11-05; 8:45 am]

BILLING CODE 6717-01-U